DEPARTMENT OF HEALTH AND HUMAN SERVICES

Centers for Disease Control and Prevention

[30Day-16-16BX]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Monitoring and Reporting System (MRS) for Rape Prevention and Education (RPE) Program Awardees—New—National Center for Injury Prevention and Control NCIPC), Centers for Disease Control and Prevention (CDC).

Background and Brief Description

Sexual violence (SV) is a major public health problem, but it is preventable. According to CDC's National Intimate Partner and Sexual Violence Survey (NISVS), nearly 1 in 5 women and 1 in 71 men in the U.S. have been raped during their lifetime, and nearly 1 in 2 women and 1 in 5 men have experienced severe SV victimization other than rape at some point in their lives. The majority of victimization starts early in life with approximately 80% of female victims experiencing their first rape before the age of 25, and almost half experiencing their first rape before the age of 18.

CDC's RPE Program is a national initiative that addresses SV through cooperative agreement funding and technical assistance to health departments in all 50 states, the District of Columbia, and four territories (e.g., Guam, Puerto Rico, U.S. Virgin Islands, and the Commonwealth of Northern Mariana Islands) to conduct state-, district-, and territorial-wide SV prevention activities. The Violence against Women Act of 1994 (VAWA) and as amended in the Violence Against Women Reauthorization Act of 2013 authorize the RPE program and legislatively states that awardees will allot RPE funds for prevention activities conducted by local organizations (i.e., RPE sub-awardees), which include rape crisis centers; State, territorial, or tribal sexual assault coalitions; and other public and private nonprofit entities (e.g., community-based organizations, nongovernmental organizations, and academic institutions).

The CDC seeks a three-year OMB approval to collect information from 55 RPE awardees (health departments in all 50 states, District of Columbia, and four U.S. territories, i.e., Guam, Puerto Rico, U.S. Virgin Islands, and the Commonwealth of Northern Mariana Islands) and their designees. RPE awardees will report activity information to CDC annually through the Monitoring and Reporting System (MRS), which consists of two reporting tools, Work Plan Tool and Program Report Tool. The Work Plan Tool consists of items about awardees' annual goals, objectives, progress, and performance towards overall cooperative agreement purpose and strategies. The Program Report Tool consists of items to assess awardees' implementation, use of evidence-based prevention strategies, and use of the public health approach. The tools in the MRS provide a systematic format to collect data related to implementation and performance consistently across all awardees.

Information to be collected will provide crucial data for program performance monitoring, will allow CDC analyze and synthesize information across multiple RPE programs, help ensure consistency in documenting progress and TA, enhance accountability of the use of federal funds, and provide timely reports as frequently requested by HHS, the White House, and Congress. It provides CDC with the capacity to respond in a timely manner to requests for information about the program, improve real-time communications between CDC and RPE awardees, and strengthen CDC's ability to monitor and evaluate awardees' progress and performance.

The estimated annual burden hours are 654. There is no cost to respondents other than their time.

Estimated Annualized Burden Hours
Type of respondents | Form name | Number of respondents | Number of responses per respondent | Average burden per response (in hours)
RPE Program Awardees (State, District of Columbia, and Territorial Health Departments) and Designees | Work Plan Tool—Initial | 18 | 1 | 10
| Program Report Tool—Initial | 18 | 1 | 8
| Work Plan Tool—Annual Reporting | 55 | 1 | 3
| Program Report Tool—Annual Reporting | 55 | 1 | 3

Leroy A. Richardson,
Chief, Information Collection Review Office, Office of Scientific Integrity, Office of the Associate Director for Science, Office of the Director, Centers for Disease Control and Prevention.

[FR Doc. 2016-12053 Filed 5-20-16; 8:45 am]

BILLING CODE 4163-18-P